Proclamation 9490 of September 9, 2016

National Grandparents Day, 2016

By the President of the United States of America

A Proclamation

Every day, families and communities across the globe benefit from the too often unheralded wisdom and devotion of dedicated grandparents—women and men who blazed trails, broke down barriers, and shaped the world we know today. On National Grandparents Day, we honor America's grandparents as the backbone of our communities, and acknowledge the progress they forged so that their children and grandchildren could live out their dreams.

In our grandmothers and grandfathers, we see a reflection of what is possible with hard work, grit, and determination. Their fight for inclusivity and opportunity for all can be seen in board rooms and courthouses across our country, and their efforts helped build the world's largest, most durable economy and strongest middle class. This enduring legacy spans generations and will empower innovators and leaders for years to come.

Some grandparents sacrificed everything, leaving behind all they knew and loved to fight for freedom far from home, or to start a new life and give their families a chance at a brighter tomorrow in America. Millions of grandparents serve as primary caregivers, providing the discipline, guidance, and encouragement needed to thrive. And for so many Americans, our grandparents are our heroes, our confidantes, and our fiercest advocates. As connections to our past and inspirations for our future, grandparents made us who we are today and have paved a path we can aspire to follow.

Today, we pause to reflect not only on the myriad ways our grandparents have enriched our lives with their selfless acts of compassion and kindness, but also on our responsibility to ensure they can retire as they deserve—with security and dignity. Let us recognize their lasting contributions to their families and communities, and let us express our gratitude for all they have made possible.

NOW, THEREFORE, I, BARACK OBAMA, President of the United States of America, by virtue of the authority vested in me by the Constitution and the laws of the United States, do hereby proclaim September 11, 2016, as National Grandparents Day. I call upon all Americans to take the time to honor their own grandparents and those in their community.

IN WITNESS WHEREOF, I have hereunto set my hand this ninth day of September, in the year of our Lord two thousand sixteen, and of the Independence of the United States of America the two hundred and forty-first.

[FR Doc. 2016-22293

Filed 9-13-16; 11:15 am]

Billing code 3295-F6-P